DEPARTMENT OF COMMERCE

National Oceanic and Atmospheric Administration

RIN 0648-XD180

Marine Mammals; File No. 18534

AGENCY: National Marine Fisheries Service (NMFS), National Oceanic and Atmospheric Administration (NOAA), Commerce.

ACTION: Notice; issuance of permit.

SUMMARY: Notice is hereby given that a permit has been issued to the Alaska SeaLife Center (Responsible Party, Tara Reimer, Ph.D.) 301 Railway Avenue, P.O. Box 1329, Seward, AK 99664 to conduct research on captive Steller sea lions (Eumetopias jubatus).

ADDRESSES: The permit and related documents are available for review upon written request or by appointment in the following office:

Permits and Conservation Division, Office of Protected Resources, NMFS, 1315 East-West Highway, Room 13705, Silver Spring, MD 20910; phone (301) 427-8401; fax (301)713-0376.

FOR FURTHER INFORMATION CONTACT: Amy Sloan or Jennifer Skidmore, (301) 427-8401.

SUPPLEMENTARY INFORMATION: On March 27, 2014, notice was published in the Federal Register (79 FR 17135) that a request for a permit to conduct research on captive Steller sea lions had been submitted by the above-named applicant. The requested permit has been issued under the authority of the Marine Mammal Protection Act of 1972, as amended (16 U.S.C. 1361 et seq.), and the regulations governing the taking and importing of marine mammals (50 CFR part 216).

Permit No. 18534-00 authorizes the Alaska SeaLife Center to conduct studies on captive Steller sea lions from the Eastern Distinct Population Segment to (1) investigate reproductive physiology and survival, growth, and physiology of captive-bred offspring; and (2) deploy instruments to develop and validate methods for monitoring wild Steller sea lions. Research on up to 18 captive sea lions may include: Anesthesia and sedation; administration of Evan's blue dye and deuterium oxide; biological sampling; dietary supplements; mass and morphometric measurements; ultrasound and radiographs; video and audio recordings; and attachment and proximity to instrumentation. Steller sea lions may be transported to and from approved facilities. The permit authorizes four research-related mortalities over the course of the permit. No research will occur on wild populations. The permit expires May 31, 2019.

In compliance with the National Environmental Policy Act of 1969 (42 U.S.C. 4321 et seq.), a final determination has been made that the activity proposed is categorically excluded from the requirement to prepare an environmental assessment or environmental impact statement.

Dated: June 17, 2014.
Tammy C. Adams,
Acting Chief, Permits and Conservation Division, Office of Protected Resources, National Marine Fisheries Service.

[FR Doc. 2014-14552 Filed 6-20-14; 8:45 am]

BILLING CODE 3510-22-P